Memorandum of October 26, 2018

Delegation of Authority Under Section 3132(d) of the National Defense Authorization Act for Fiscal Year 2019

Memorandum for the Secretary of Defense[,] the Attorney General[,] the Secretary of Energy[,] the Secretary of Homeland Security[, and] the Director of National Intelligence

By the authority vested in me as President by the Constitution and the laws of the United States of America, including section 301 of title 3, United States Code, I hereby delegate to the Secretary of Energy, in coordination with the Secretary of Defense, the Attorney General, the Secretary of Homeland Security, and the Director of National Intelligence, the authority to provide the briefing to the Congress called for by section 3132(d) of the National Defense Authorization Act for Fiscal Year 2019 (Public Law 115-232).

The delegation in this memorandum shall apply to any provision of any future public law that is the same or substantially the same as the provision referenced in this memorandum.

The Secretary of Energy is authorized and directed to publish this memorandum in the Federal Register.

THE WHITE HOUSE,

Washington, October 26, 2018

[FR Doc. 2018-23973

Filed 10-30-18; 11:15 am]

Billing code 6450-01-P